DEPARTMENT OF HOUSING AND URBAN DEVELOPMENT

[Docket No. FR-5932-N-05]

Agenda and Notice of Public Meetings of the Moving To Work Research Advisory Committee

AGENCY: Office of the Assistant Secretary for Public and Indian Housing, and Office of the Assistant Secretary for Policy Development and Research, HUD.

ACTION: Notice of a federal advisory committee meeting.

SUMMARY: This notice sets forth the schedule and proposed agenda of a two-day meeting of the Moving To Work (MTW) Research Advisory Committee (Committee). The Committee meeting will be held on Thursday and Friday, September 1 and 2, 2016. The meeting is open to the public and is accessible to individuals with disabilities.

DATES: The in-person meeting will be held on Thursday, September 1, 2016 from 9:00 a.m. to 5:30 p.m. Eastern Daylight Time (EDT) and Friday, September 2, 2016 from 8:00 a.m. to 4:00 p.m. (EDT) at HUD Headquarters, 451 7th Street SW., Washington, DC 20410.

FOR FURTHER INFORMATION CONTACT: Laurel Davis, Department of Housing and Urban Development, Office of Public and Indian Housing, 451 7th Street SW., Room 4116, Washington, DC 20410, telephone (202) 402-5759 (this is not a toll-free number). Persons who have difficulty hearing or speaking may access this number via TTY by calling the toll-free Federal Relay Service at (800) 877-8339 or can email: MTWAdvisoryCommittee@hud.gov.

SUPPLEMENTARY INFORMATION: Notice of this meeting is provided in accordance with the Federal Advisory Committee Act, 5. U.S.C. App. 10(a)(2). The Moving To Work (MTW) Research Advisory Committee (Committee) was established on May 2, 2016, to advise HUD on specific policy proposals and methods of research and evaluation related to the expansion of the MTW demonstration to an additional 100 high-performing Public Housing Authorities (PHAs). See 81 FR 244630. On July 26 and 28, 2016 HUD convened two conference call meetings of the Committee. The minutes of these meetings are available on the HUD Web site at: http://portal.hud.gov/hudportal/HUD?src=/program_offices/public_indian_housing/programs/ph/mtw/expansion.

HUD is now convening a two-day meeting to discuss the framework and associated research methodologies for potential policies that HUD may require new MTW PHAs to test as a condition of admittance to the program. HUD will convene the first day of the meeting on Thursday, September 1, 2016, from 9:00 a.m. to 5:30 p.m. (EDT). The second day of the Committee's meeting will convene on Friday, September 2, 2016, from 8:00 a.m. to 4:00 p.m. (EDT). The agenda for the two-day meeting is as follows:

Thursday, September 1, 2016 from 9:00 a.m. to 5:30 p.m. EDT

I. Welcome and Introductions

II. Review of Agenda

III. Recap of July 2016 Conference Calls

IV. Goals for the September 1st and 2nd Meeting

a. Review and refine “Guiding Principles” for research methodology discussion

b. Discuss framework and possible research methodologies for each policy

c. Obtain recommendations for the initial cohort

V. Overview of Evaluation Responsibilities

VI. Public Comment

VII. BREAK

VIII. Policy Framework and Research Methodologies—MTW Statutory Objective #1: Reduce Cost and Achieve Greater Cost-Effectiveness in Federal Expenditures

a. Simplification of the Rent Calculation

IX. BREAK FOR LUNCH

X. Policy Framework and Research Methodologies—MTW Statutory Objective #1: Reduce Cost and Achieve Greater Cost-Effectiveness in Federal Expenditures (continued)

a. Studying Fungibility through the MTW Block Grant

b. Regionalization, as per the FY 2016 Appropriations Act

XI. BREAK

XII. Policy Framework and Research Methodologies—MTW Statutory Objective #1: Reduce Cost and Achieve Greater Cost-Effectiveness in Federal Expenditures (continued)

a. Other Topics

b. Public Comment

XIII. Policy Framework and Research Methodologies—MTW Statutory Objective #2: Give Incentives to Families with Children Whose Heads of Household are Either Working, Seeking Work, or Participating in Job Training, Educational, or Other Programs that Assist in Obtaining Employment and Becoming Economically Self-Sufficient

a. Rent Reform, in combination with work requirements, time limits, and supportive services

b. Work Requirements and/or time limits, without rent reform

XIV. Wrap-Up and Adjourn

Friday, September 2, 2016 from 8:00 a.m. to 4:00 p.m. EDT

I. Welcome and Introductions

II. Recap of Day 1 Discussion

III. Policy Framework and Research Methodologies—MTW Statutory Objective #2: Give Incentives to Families with Children Whose Heads of Household are Either Working, Seeking Work, or Participating in Job Training, Educational, or Other Programs that Assist in Obtaining Employment and Becoming Economically Self-Sufficient (continued)

a. Strategies for the reintegration of individuals to their family or household

b. Other Topics

c. Public Comment

IV. BREAK

V. Policy Framework and Research Methodologies—MTW Statutory Objective #3: Increasing Housing Choice

a. Local Project-Based Voucher Programs

b. Sponsor-Based Housing

VI. BREAK FOR LUNCH

VII. Policy Framework and Research Methodologies—MTW Statutory Objective #3: Increasing Housing Choice (continued)

a. Landlord Incentive Programs

b. Other Topics

VIII. BREAK

IX. Public Comment

X. Recap of Day 2 Discussion

XI. Priorities for the 1st Cohort

XII. Wrap-Up, Next Steps and Adjourn

With advance registration, the public is invited to attend both days of the meeting in-person or by phone. To register to attend either in-person or by phone, please visit the MTW Demonstration's expansion Web page at: http://portal.hud.gov/hudportal/HUD?src=/program_offices/public_indian_housing/programs/ph/mtw/expansion.

If attending the meeting in-person, details about the meeting location and how to access the building will be provided after completing the pre-registration process at the above link.

Registered members of the public can call-in to both days of the meeting by using the following toll-free number in the United States: (800) 230-1766, or the following International number for those outside the United States: (612) 288-0329. Please be advised that the operator will ask callers to provide their names and their organizational affiliations (if any) prior to placing callers into the conference line to ensure they are part of the pre-registration list. Callers can expect to incur charges for calls they initiate over wireless lines and for international calls, and HUD will not refund any incurred charges. Callers will incur no charge for calls they initiate over land-line connections to the toll-free phone number. Persons with hearing impairments may also follow the discussion by first calling the Federal Relay Service (FRS): (800) 977-8339 and providing the FRS operator with the conference call toll-free number: (800) 230-1766.

Also, with advance registration, members of the public will have an opportunity to provide feedback during the meeting. The total amount of time for such feedback will be limited to ensure pertinent Committee business is completed. If the number of registered commenters for any comment session listed on the agenda exceeds the available time, HUD will initiate a lottery to select commenters. In order to pre-register to provide comments during one or more of the public comment sessions on the meeting agenda, please visit the MTW Demonstration's expansion Web page at: http://portal.hud.gov/hudportal/HUD?src=/program_offices/public_indian_housing/programs/ph/mtw/expansion.

Records and documents discussed during the meeting, as well as other information about the work of this Committee, will be available for public viewing as they become available at: http://www.facadatabase.gov/committee/committee.aspx?t=c&cid=2570&aid=77 by clicking on the “Committee Meetings” link. These materials will also be available on the MTW Demonstration's expansion Web page at: http://portal.hud.gov/hudportal/HUD?src=/program_offices/public_indian_housing/programs/ph/mtw/expansion. Records generated from this meeting may also be inspected and reproduced at the Department of Housing and Urban Development Headquarters in Washington, DC, as they become available, both before and after the meeting.

Outside of the work of this Committee, information about HUD's broader implementation of the MTW expansion, as well as additional opportunities for public input, can be found on the MTW Demonstration's expansion Web page at: http://portal.hud.gov/hudportal/HUD?src=/program_offices/public_indian_housing/programs/ph/mtw/expansion.

Questions concerning this notice should be directed to Laurel Davis, DFO, Office of Public and Indian Housing, Department of Housing and Urban Development at MTWAdvisory Committee@hud.gov.

Dated: August 10, 2016.
Lourdes Castro Ramírez,
Principal Deputy Assistant Secretary for Public and Indian Housing.
Katherine M. O'Regan,
Assistant Secretary for Policy Development and Research.

[FR Doc. 2016-19513 Filed 8-15-16; 8:45 am]

BILLING CODE 4210-67-P